DEPARTMENT OF AGRICULTURE

Agricultural Marketing Service

[Doc No. AMS-FGIS-20-0065]

United States Standards for Beans

AGENCY: Agricultural Marketing Service, USDA.

ACTION: Reopening of comment period.

SUMMARY: Notice is hereby given that the comment period for a notice for comment published in the Federal Register on September 29, 2020 is reopened. The publication invited comments on the revision to the method of interpretation for determining “sample grade criteria,” as it pertains to the class “Blackeye beans,” in the U.S. Standards for Beans under the United States Agricultural Marketing Act (AMA).

DATES: The comment period for the proposed rule published on September 29, 2020 at 85 FR 60957 is reopened. Comments are due by January 11, 2021.

ADDRESSES: We invite you to submit written comments via the internet at http://www.regulations.gov. All comments should refer to the date and page number of this issue of the Federal Register. All comments submitted in response to the notice, including the identity of individuals or entities submitting comments, will be made available to the public on the internet via http://www.regulations.gov.

FOR FURTHER INFORMATION CONTACT: Loren Almond, USDA AMS; Telephone: (816) 891-0422; Email: Loren.L.Almond@usda.gov.

SUPPLEMENTARY INFORMATION: On September 29, 2020, AMS published a notice seeking comment on a proposal to amend the Bean Inspection Handbook. The proposal would revise the “sample grade criteria,” as it pertains to the class “Blackeye beans.” The proposed revision would remove clean-cut weevil-bored beans as a sample grade factor and change the sample grade tolerances for insect webbing or filth to a percent of 0.10 or more. The original 30-day comment period provided in the proposed rule closed on October 29, 2020. A stakeholder submitted a comment requesting an extension of the comment period. The Agricultural Marketing Service is reopening the public comment period for an additional 30 days to ensure that interested persons have sufficient time to review and comment on the notice for comment. The comment period is reopened for 30 days from the date of publication of this notice.

(Authority: 7 U.S.C. 1621-1627)

Bruce Summers,
Administrator, Agricultural Marketing Service.

[FR Doc. 2020-26207 Filed 11-25-20; 8:45 am]

BILLING CODE P